DEPARTMENT OF HEALTH AND HUMAN SERVICES

Administration on Aging

Agency Information Collection Activities; Submission for OMB Review; Comment Request; National Family Caregiver Support Program 50-State Survey

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by May 7, 2003.

ADDRESSES: Submit written comments on the collection of information to the Office of Information and Regulatory Affairs, OMB, New Executive Office Bldg., 725 17th St., NW., rm. 10235, Washington, DC 20503, Attn: Allison Herron Eydt, Desk Officer for AoA.

FOR FURTHER INFORMATION CONTACT: Brian Lutz, Director, Office of Community Based Services, (202) 357-3530

SUPPLEMENTARY INFORMATION: In compliance with 44 U.S.C. 3507, AoA has submitted the following proposed collection of information to OMB for review and clearance.

The collection of this information will serve to profile the experience of states in providing family caregiver support services to the elderly and younger adults with disabilities, following the passage of the NFCSP. The outcomes from this survey will include: cross-cutting policy and service delivery issues, state-by-state demographics, promising practices, types of family caregiver support services available in each state, eligibility and assessment criteria, and other program-specific and state-specific information.

The project's data collection, analysis, reporting and dissemination will occur over an estimated 12-month period. Subject to OMB approval, we anticipate beginning data collection in June 2003 and ending data collection in October 2003. Data will be cleaned, entered, compiled and verified over a three-month period (September 2003-November 2003). Data analysis will be conducted over a three-month period (December 2003-February 2004), and state profiles and state-by-state datasets will be prepared over a subsequent three-month period (March 2004-May 2004). The written report will be completed in June 2004.

AoA estimates the burden of this one-time only collection of information as follows:

Part One Survey—Family Caregiver Alliance:

Number of respondents: Three people per state.

Annual Hour Burden: 30 minutes.

Part Two Follow-Up Telephone Interview—Family Caregiver Alliance

Number of respondents: Three people per state (same population—Part One).

Annual Hour Burden: 30 minutes.

Survey by National Conference of State Legislatures:

Number of respondents: One person per state.

Frequency of response: One time.

Annual Hour Burden: 20 minutes.

Annualized Cost: 80 minutes × 50 × $30/hr/person = $2000.

In the Federal Register of December 4, 2002 (07 FR 72216), the agency requested comments on the proposed collection of information. No comments were received.

Dated: April 1, 2003.
Josefina G. Carbonell,
Assistant Secretary for Aging.

[FR Doc. 03-8281 Filed 4-4-03; 8:45 am]

BILLING CODE 4154-01-P